DEPARTMENT OF THE INTERIOR

National Park Service

National Register of Historic Places; Notification of Pending Nominations and Related Actions

Nominations for the following properties being considered for listing or related actions in the National Register were received by the National Park Service before June 16, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by July 13, 2007.

J. Paul Loether,
Chief, National Register of Historic Places/National Historic Landmarks Program.

CONNECTICUT

Windham County

Putnam Railroad Station, 35 and 45-47 Main St., Putnam, 07000742.

FLORIDA

Seminole County

First Methodist Church of Oviedo, 263 King St., Oviedo, 07000743.

MICHIGAN

Berrien County

Union Block, 114 E. Front St., Buchanan, 07000746.

Houghton County

Quincy Mining Company Stamp Mills Historic District, M-26,Osceola, 07000750.

Ingham County

Arbaugh's Department Store Building, 401 S. Washington, Lansing, 07000748.

Kalamazoo County

Shields, Patrick and Sarah Dobbins, House, 6681 N. 2nd St., Alamo, 07000745.

Wayne County

Wardell, The, 15 E. Kirby Ave., Detroit, 07000744.

MISSISSIPPI

Hinds County

Raymond Historic District, (Raymond and Vicinity MRA), Roughly Town Sq, with parts of E. Main, Palestine, Cooper's Well, Clinton, Oak, Court, W. Main, Dupree, and Port Gibson, Raymond, 07000749.

Lauderdale County

Lacy Homestead, Address Restricted, Toomsuba, 07000747.

MISSOURI

Cape Girardeau County

Broadway—Middle Commercial Historic District, (Cape Girardeau, Missouri MPS), 500 Blk of Broadway and 100 blk of N. Middle St., Cape Girardeau, 07000753.

Jefferson County

Kimmswick Historic District, Roughly bounded by Front St., Fourth St., Mill St., Elm St. and Oak St., Kimmswick, 07000752.

St. Clair County

Harper School, jct. of MO 82 and MO U, Harper, 07000751.

NEW YORK

Delaware County

Pioneer Cemetery, Main St., Sidney, 07000754.

Livingston County

Boyd & Parker Park and Groveland Ambuscade, US 20A; Gray Hill Rd., Cuylerville, 07000757.

Oneida County

Hieber, John C., Building, 311 Main St., Utica, 07000756.

Onondaga County

Colden Mansion Ruins, NY 17K, Montgomery, 07000758.

Orleans County

Cobblestone Inn (Cobblestone Architecture of New York State MPS),12226 Ridge Rd., Oak Orchard, 07000755.

OREGON

Hood River County

Hill, Martin and Carrie, House, 2265 OR 35, Hood River, 07000760.

Multnomah County

Yale Union Laundry Building, 800 SE 10th Ave., Portland, 07000759.

RHODE ISLAND

Kent County

Harris Mill, 618 Main St., Coventry, 07000761.

TENNESSEE

Davidson County

Whitland Area Neighborhood, Roughly bounded by Whitland Ave., Bowling Ave., S. Wilson Blvd., and tributary of Richland Creek., Nashville, 07000763.

Shelby County

Universal Life Insurance Company, 480 Linden Ave., Memphis, 07000762.

VIRGINIA

Henrico County

Brook Road Marker, Jefferson Davis Highway, (UDC Commemorative Highway Markers along the Jefferson Davis Highway in Virginia), 0.2 mi. E of jct. of Hillard and Brook Rds., Richmond, 07000765.

King William County

Sharon Indian School, 13383 King William Rd., King William, 07000764.

Loudoun County

Green Garden, 22439 Green Garden Rd., Upperville, 07000769.

Richmond Independent city

Department of Public Utilities Howard (Overbrook) Road Facility,1307, 1311, 1315, 1317, 1319 Overbrook Rd., Richmond (Independent City), 07000767.

Rockingham County

Edom Store and Post Office, 5375 Jesse Bennett Way, Edom, 07000768.

Staunton Independent city

Western State Hospital (Boundary Increase II), 301 Greenville Ave., adjacent to NE corner of VA 11 and VA 250, Staunton (Independent City), 07000766.

[FR Doc. E7-12489 Filed 6-27-07; 8:45 am]

BILLING CODE 4312-51-P